DEPARTMENT OF COMMERCE

National Oceanic and Atmospheric Administration

RIN 0648-XF487

Caribbean Fishery Management Council; Public Meeting

AGENCY: National Marine Fisheries Service (NMFS), National Oceanic and Atmospheric Administration (NOAA), Commerce.

ACTION: Notice of a public meeting.

SUMMARY: The Caribbean Fishery Management Council's Scientific and Statistical Committee (SSC) will hold a 5-day meeting to discuss the items contained in the agenda under SUPPLEMENTARY INFORMATION.

DATES: The meetings will be held on July 10-14, 2017.

ADDRESSES: The meeting will be held at the Council Office, 270 Muñoz Rivera Avenue, Suite 401, San Juan, Puerto Rico.

FOR FURTHER INFORMATION CONTACT: Caribbean Fishery Management Council, 270 Muñoz Rivera Avenue, Suite 401, San Juan, Puerto Rico 00918-1903; telephone: (787) 766-5926.

SUPPLEMENTARY INFORMATION:

Monday, July 10, 2017

—Call to Order

—Adoption of Agenda

—1st day Overview; review last meetings' outcomes

—Review ABC CR (buffer)

—Puerto Rico

—Define process for determination of scalars used in ABC Control Rule

—Define process for determination of buffers used in ABC Control Rule

—Determine References Points (e.g., OFL, ABC) for species/species groupings for each Island Use of multi-year sequences for comparison to OFL (NS1)

—Review and finalize Action 2—Indicator species for Puerto Rico, St. Thomas/St. John and St. Croix

—Action 3: Time Series: Select a time series of landings data to establish management reference points for a stock/stock complex, as applicable

—Finish with PR species (Action 3)

Tuesday, July 11, 2017

—Finish with PR species (Action 3)

Wednesday, July 12, 2017

—Day 3 USVI—STT/STJ

—Action 3: Time Series: Select a time series of landings data to establish management reference points for a stock/stock complex, as applicable.

—Determination of likely stock/complex status

—Define process for determination of scalars used in ABC Control Rule

—Define process for determination of buffers used in ABC Control Rule

—Determine References Points (e.g., OFL, ABC) for species/species groupings for each Island Use of multi-year sequences for comparison to OFL (NS1)

Thursday, July 13, 2017

—USVI STX

—Review and finalize Action 2—Indicator species

—Action 3: Time Series: Select a time series of landings data to establish management reference points for a stock/stock complex, as applicable.

—Determination of likely stock/complex status

—Define process for determination of scalars used in ABC Control Rule

—Define process for determination of buffers used in ABC Control Rule

—Determine References Points (e.g., OFL, ABC) for species/species groupings for each Island Use of multi-year sequences for comparison to OFL (NS1)

Friday, July 14, 2017

—Recommendations to CFMC

—Other Business

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: June 22, 2017.
Tracey L. Thompson,
Acting Deputy Director, Office of Sustainable Fisheries, National Marine Fisheries Service.

[FR Doc. 2017-13401 Filed 6-26-17; 8:45 am]

BILLING CODE 3510-22-P